DEPARTMENT OF HEALTH AND HUMAN SERVICES

Administration for Children and Families

Submission for OMB Review; Survey of the National Survey of Child and Adolescent Well-Being (NSCAW) Adopted Youth, Young Adults, and Adoptive Parents (0970-0555)

AGENCY: Office of Planning, Research, and Evaluation, Administration for Children and Families, HHS.

ACTION: Request for public comment.

SUMMARY: The Administration for Children and Families (ACF) at the U.S. Department of Health and Human Services (HHS) seeks approval for an extension with no changes to a one-time study to examine familial outcomes 8 years or more after a child's adoption from the child welfare system. The primary objective of this study is to estimate the prevalence of instability events that occur in families who have adopted children who have exited the foster care system. The second objective is to understand risk and protective factors associated with post adoption instability. Office of Management and Budget (OMB) approval expires September 30, 2021, and this request is to extend approval to allow for the completion of data collection.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: Through this study, ACF is conducting web or telephone surveys with adopted youth, young adults, and adults as well as adoptive parents who were participants in the first or second cohort of NSCAW (NSCAW I, II; OMB #0970-0202). The surveys are designed to collect information about instability events (such as foster care re-entry or running away that occurred after a child's adoption) as well as family functioning, perceptions of the adoption relationship, and services and support received after adoption. Due to the COVID-19 pandemic, initial activities to contact potential respondents were delayed. As a result, ACF is requesting an extension to collect data beyond the current OMB expiration date of September 30, 2021.

Respondents: Adopted youth, young adults, adults, and their associated adoptive parents who participated in NSCAW I or II.

Annual Burden Estimates
Instrument | Number of respondents (total over request period) | Number of responses per respondent (total over request period) | Average burden per response (in hours) | Total burden (in hours) | Annual burden (in hours)
Survey of NSCAW Adopted Youth, Young Adults, and Adults | 588 | 1 | .5 | 294 | 294
Survey of NSCAW Adoptive Parents | 554 | 1 | .5 | 277 | 277

Estimated Total Annual Burden Hours: 571.

Authority: Child Abuse Prevention and Treatment and Adoption Reform Act of 1978.

Mary B. Jones,
ACF/OPRE Certifying Officer.

[FR Doc. 2021-16979 Filed 8-9-21; 8:45 am]

BILLING CODE 4184-44-P